DEPARTMENT OF HOUSING AND URBAN DEVELOPMENT

[Docket No. FR-5041-N-43]

Notice of Proposed Information Collection: Comment Request; Application and Re-Certification Packages for Approval of Nonprofit Organizations in FHA Activities

AGENCY: Office of the Assistant Secretary for Housing—Federal Housing Commissioner, HUD.

ACTION: Notice.

SUMMARY: The proposed information collection requirement described below will be submitted to the Office of Management and Budget (OMB) for review, as required by the Paperwork Reduction Act. The Department is soliciting public comments on the subject proposal.

DATES: Comments Due Date: January 2, 2007.

ADDRESSES: Interested persons are invited to submit comments regarding this proposal. Comments should refer to the proposal by name and/or OMB Control Number and should be sent to: Lillian Deitzer, Reports Management Officer, Department of Housing and Urban Development, 451 7th Street, SW., L'Enfant Plaza Building, Room 8003, Washington, DC 20410 or Lillian_Deitzer@hud.gov.

FOR FURTHER INFORMATION CONTACT: Margaret Burns, Director, Office of Single Family Program Development, Department of Housing and Urban Development, 451 7th Street, SW., Washington, DC 20410, telephone (202) 708-2121 (this is not a toll free number) for copies of the proposed forms and other available information.

SUPPLEMENTARY INFORMATION: The Department is submitting the proposed information collection to OMB for review, as required by the Paperwork Reduction Act of 1995 (44 U.S.C. Chapter 35, as amended).

This Notice is soliciting comments from members of the public and affected agencies concerning the proposed collection of information to: (1) Evaluate whether the proposed collection is necessary for the proper performance of the functions of the agency, including whether the information will have practical utility; (2) Evaluate the accuracy of the agency's estimate of the burden of the proposed collection of information; (3) Enhance the quality, utility, and clarity of the information to be collected; and (4) Minimize the burden of the collection of information on those who are to respond; including the use of appropriate automated collection techniques or other forms of information technology, e.g., permitting electronic submission of responses.

This Notice also lists the following information:

Title of Proposal: Application and Re-certification Packages for Approval of Nonprofit Organizations for FHA Activities.

OMB Control Number, if applicable: 2502-0540.

Description of the need for the information and proposed use: The information collection is essential to the Department's mission to expand homeownership opportunities and strengthen neighborhoods and communities by standardizing the process throughout the country. The information that nonprofit organizations must submit to be eligible to participate as a mortgagor in HUD's single-family housing programs is in the form of an application, re-certification, or other reporting criteria. Nonprofit organizations are viewed as significant partners in rehabilitating and reselling residential housing to low- and moderate-income families, particularly in the nation's urban centers. Each nonprofit organization seeking to become approved as a mortgagor must submit a completed Application Package for Nonprofit Agency Approval and an Affordable Housing Plan—Format for Narrative to the appropriate HUD Homeownership Center (HOC). The Affordable Housing Plan—Format for Narrative details the nonprofit organization's plan to develop successful homeownership opportunities for low- and moderate-income persons. Nonprofit agencies applying for approval to provide secondary financing only do not need to include an Affordable Housing Plan in their submission.

Approvals granted to nonprofit applicants are for a period of two years. An approval letter will be issued setting forth the activities for which the nonprofit was approved to perform, and any conditions associated with the approval. Approvals granted by one HOC would be recognized and accepted by all others, with the exception of the affordable housing plan. The affordable housing plan must be approved by each HOC having jurisdiction over the areas in which the nonprofit agency wishes to do business. Nonprofit agencies must be re-certified by FHA every two years. Re-certification includes an updating of the nonprofit's activites. FHA has also placed a limitation on the number of 203(k) FHA insured mortgages a nonprofit may have at one time in order to ensure that nonprofit agencies do not overextend their financial and management capabilities. Generally, a nonprofit agency will be prohibited from borrowing under the 203(k) program if the agency has 10 or more incomplete 203(k) developments at one time. This limitation may be waived based upon an exceptional performance record.

Agency form numbers, if applicable: None.

Estimation of the total numbers of hours needed to prepare the information collection including number of respondents, frequency of response, and hours of response: The number of respondents are estimated to be 583 generating approximately 583 annual responses; the frequency of response is annually, biennially, and on occasion, the estimated time needed to prepare the responses varies from 3 hours to 24 hours; and the total estimated annual burden hours are 6,156.

Status of the proposed information collection: Extension of a currently approved collection.

Authority: The Paperwork Reduction Act of 1995, 44 U.S.C., Chapter 35, as amended.

Dated: October 26, 2006.
Frank L. Davis,
General Deputy Assistant Secretary for Housing—Deputy Federal Housing Commissioner.

[FR Doc. E6-18433 Filed 11-1-06; 8:45 am]

BILLING CODE 4210-67-P